DEPARTMENT OF THE INTERIOR

Bureau of Land Management

[LLCAC00000 L07770900 XZ0000]

Notice of Public Meeting of the Central California Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Central California Resource Advisory Council (RAC) will meet as indicated below.

DATES: The meeting will be held Friday and Saturday, March 20 and 21, 2009, at the Mt. Whitney Golf Club clubhouse, 2559 S. Main St., Lone Pine, Calif. On March 20, the members will convene at 8 a.m. for a business meeting, followed by a field trip to the Alabama Hills beginning at noon. Members of the public are welcome to attend the tour and meeting. Field tour participants must provide their own transportation and lunch. The Advisory Council will resume its meeting at 8 a.m. on March 21, at the Mt. Whitney Golf Club clubhouse. Time for public comment is reserved from 9 a.m. to 10 a.m. on March 21.

FOR FURTHER INFORMATION CONTACT: BLM Bishop Field Office Manager, (760) 872-5011; or BLM Public Affairs Officer David Christy, (916) 985-4474.

SUPPLEMENTARY INFORMATION: The 12-member council advises the Secretary of the Interior, through the BLM, on a variety of planning and management issues associated with public land management in Central California, including Inyo and Mono counties. At this meeting, agenda topics will include an update on the progress of the Alabama Stewardship Group and a presentation on the proposed Cougar Gold Mining Operation in the Bodie Hills. Additional ongoing business will be discussed by the council. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: February 5, 2009.
David Christy,
Public Affairs Officer.

[FR Doc. E9-3536 Filed 2-18-09; 8:45 am]

BILLING CODE 4310-40-P